DEPARTMENT OF COMMERCE

International Trade Administration

Cornell University; Notice of Consolidated Decision on Applications for Duty-Free Entry of Scientific Instruments

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 04-010. Applicant: Cornell University, Ithaca, NY 14853. Instrument: X-ray Double Crystal Monochrometer. Manufacturer: Kohzu Precision Co.,Ltd., Japan. Intended Use: See notice at 96 FR 34654, June 22, 2004. Reasons: The foreign instrument provides immediate accommodation into the facility's existing crystal mounting system without any degradation in ultimate performance. Any domestic equivalent would require extensive design and might not guarantee performance. Advice received from: The National Institutes of Health, June 28, 2004.

Docket Number: 04-013 Applicant: Cornell University, Ithaca, NY 14853. Instrument: X-ray Mirror Focusing System, Model Ne Cat. Manufacturer: Oxford-Danfysik, United Kingdom. Intended Use: See notice at 69 FR 34654, June 22, 2004. Reasons: The foreign instrument provides that both the horizontal and the vertical focusing mirrors can be located in the same vacuum vessel. This is required to provide adequate focusing and bending of the X-ray beam. Advice received from: The National Institutes of Health, June 28, 2004.

The capabilities of each of the foreign instruments described above are pertinent to each applicant's intended purpose and we know of no domestic instrument or apparatus of equivalent scientific value for the intended use of each instrument.

We know of no other instrument or apparatus being manufactured in the United States which is of equivalent scientific value to any of the foreign instruments.

Gerald A. Zerdy,
Program Manager, Statutory Import Programs Staff.

[FR Doc. 04-16128 Filed 7-15-04; 8:45 am]

BILLING CODE 3510-DS-P